DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on July 18-19, 2007. On July 18 the meeting will be held in the Simmons Biomedical Research Bldg (NIB), Room 11.120, University of Texas Southwestern School of Medicine, 5323 Harry Hines Boulevard., Dallas, Texas. The session will convene at 8 a.m. and adjourn at 5:30 p.m. On July 19 the meeting will be held at Hilton Anatole, 2201 Stemmons Freeway, Dallas, Texas. The session will convene at 8 a.m. and adjourn at 2 p.m. All Sessions will be open to the public.

The purpose of the Committee is to provide advice and make recommendations to the Secretary of Veterans Affairs on proposed research studies, research plans and research strategies relating to the health consequences of military service in the Southwest Asia theater of operations during the Gulf War.

The Committee will review VA program activities related to Gulf War veterans' illnesses and updates on relevant scientific research published since the last Committee meeting. Additionally, there will be presentations and discussion of the Gulf War Illnesses Research Program at the University of Texas Southwestern School of Medicine, chronic multisymptom illnesses, mechanisms potentially underlying chronic symptoms affecting Gulf War veterans, and discussion of Committee business and activities.

The meeting will include time reserved for public comments. A sign-up sheet for five-minute comments will be available at the meeting. Individuals who speak are invited to submit a 1-2 page summary of their comments at the time of the meeting for inclusion in the official meeting record. Members of the public may also submit written statements for the Committee's review to Dr. Lea Steele, RAC-Gulf War Veterans' Illnesses (T-GW), U.S. Department of Veterans Affairs, 2200 SW. Gage Boulevard., Topeka, KS 66622.

Any member of the public seeking additional information should contact Dr. William Goldberg, Designated Federal Officer, at (202) 254-0294, or Dr. Steele, Scientific Director, at (785) 350-3111, ext. 54617.

Dated: June 28, 2007.
By direction of the Secretary.
E. Philip Riggin,
Committee Management Officer.

[FR Doc. 07-3323 Filed 7-9-07; 8:45 am]

BILLING CODE 8320-01-M